DEPARTMENT OF COMMERCE

National Oceanic and Atmospheric Administration

50 CFR Part 300

[I.D. 110701C]

Notification of U.S. Shrimp Quota Allocation in the Northwest Atlantic Fisheries Organization (NAFO) Regulatory Area

AGENCY: National Marine Fisheries Service (NMFS), National Oceanic and Atmospheric Administration (NOAA), Commerce.

ACTION: Notification of U.S. shrimp quota allocation.

SUMMARY: NMFS announces that the 67-metric ton shrimp quota available for harvest by the United States in Division 3L of the NAFO Regulatory Area has been allocated.

DATES: The quota allocation is effective through December 31, 2001.

ADDRESSES: Information relating to NAFO fish quotas and the NAFO Conservation and Enforcement Measures is available from Jennifer L. Anderson at the NMFS Northeast Regional Office, One Blackburn Drive, Gloucester, Massachusetts 01930 (phone: 978-281-9226, fax: 978-281-9135, e-mail: jennifer.anderson@noaa.gov) and from NAFO on the World Wide Web at <http://www.nafo.ca>.

FOR FURTHER INFORMATION CONTACT: Jennifer L. Anderson, 978-281-9226, or Patrick E. Moran, 301-713-2276.

SUPPLEMENTARY INFORMATION:

Background

NAFO has established and maintains conservation measures in its Regulatory Area that include one effort limitation fishery as well as fisheries with total allowable catches and member nation quota allocations. At the 2000 NAFO Annual Meeting, the United States received allocations for several NAFO stocks, including an effort allocation for shrimp in NAFO Division 3M (only 1 vessel may fish for 100 days) and 67 metric tons of shrimp in NAFO Division 3L. NMFS published a notice summarizing the availability and procedures for harvesting these stocks (65 FR 71270, November 30, 2000), and that information is not repeated here.

U.S. Allocations

Expressions of interest in harvesting the U.S. allocation for 3M shrimp from the NAFO Regulatory Area were accepted from U.S. vessel owners in possession of a valid High Seas Fishing Compliance Act permit and from U.S. fishing interests intending to make use of vessels of other NAFO Contracting Parties under chartering arrangements. U.S. vessels were given first consideration and the 3M shrimp allocation was initially awarded to a U.S. vessel. However, the vessel subsequently chose to forgo the use of the allocation and no other expressions of interest were made on behalf of U.S. vessels.

NAFO regulations permit NAFO Contracting Parties to enter into chartering arrangements with other Contracting Parties to utilize shrimp fishing days and quotas. Because no additional expressions of interest were received from U.S. vessels, on June 22, 2001, Mayflower International, Ltd., was authorized by NMFS to make use of a chartering arrangement with the Republic of Estonia to fish the 2001 U.S. effort allocation for 3M shrimp. Due to the success of this operation, Mayflower International, Ltd., has requested a continuation of the chartering arrangement with the Republic of Estonia in order to harvest the U.S. 3L shrimp quota allocation.

NMFS did not announce that the U.S. 3L shrimp allocation was available to chartering arrangements in the Federal Register notice published on November 30, 2000. However, the NAFO Conservation and Enforcement Measures stipulate that charter arrangements are available to only one vessel per year. Because no U.S. vessels have expressed interest in this fishery, and because the NAFO regulations prohibit additional chartering arrangements for the 2001 fishing year, NMFS has awarded the U.S. 3L shrimp quota allocation to Mayflower International, Ltd. Final approval of this transfer is contingent upon a favorable vote from the NAFO Contracting Parties and strict adherence to the NAFO Conservation and Enforcement Measures by the chartering operation and the Government of the Republic of Estonia.

This arrangement will continue to provide an economic benefit to Mayflower International Ltd., and its employees, while at the same time maximizing the opportunity for the United States to enhance its fishing history for the 3L and 3M shrimp stocks. Mayflower International, Ltd., has also agreed to provide further information on the characteristics and economics of this fishery. This information may prove useful to future U.S. vessels interested in participating NAFO fisheries.

Dated: November 14, 2001.
John Oliver,
Acting Assistant Administrator for Fisheries, National Marine Fisheries Service.

[FR Doc. 01-28927 Filed 11-19-01; 8:45 am]

BILLING CODE 3510-22-S